DEPARTMENT OF ENERGY

Federal Energy Regulatory Commission

Combined Notice of Filings #1

Take notice that the Commission received the following electric rate filings:

Docket Numbers: ER18-718-001.

Applicants: Guzman Energy Partners LLC.

Description: Tariff Amendment: Market-Based Rate Tariff #1 Amendment to be effective 10/4/2017.

Filed Date: 2/27/18.

Accession Number: 20180227-5042.

Comments Due: 5 p.m. ET 3/20/18.

Docket Numbers: ER18-913-000.

Applicants: Northern States Power Company, a Minnesota corporation, a Wisconsin corporation.

Description: § 205(d) Rate Filing: Theoretical Reserve Amortization to be effective 1/1/2017.

Filed Date: 2/27/18.

Accession Number: 20180227-5031.

Comments Due: 5 p.m. ET 3/20/18.

Docket Numbers: ER18-914-000.

Applicants: Avista Corporation.

Description: Tariff Cancellation: Avista Corp Cancellation Chewelah Const Agrmt SA T1137 to be effective 2/27/2018.

Filed Date: 2/27/18.

Accession Number: 20180227-5059.

Comments Due: 5 p.m. ET 3/20/18.

Docket Numbers: ER18-915-000.

Applicants: Public Service Company of Colorado.

Description: Compliance filing: PSCo-TSGT—Boone-Huerfano-Stip & Offer Stlment 480 0.0.0 to be effective 12/31/9998.

Filed Date: 2/27/18.

Accession Number: 20180227-5062.

Comments Due: 5 p.m. ET 3/20/18.

Docket Numbers: ER18-916-000.

Applicants: Nevada Power Company.

Description: § 205(d) Rate Filing: Rate Schedule No. 160 NPC/Sun Valley Morgan Concurrence to be effective 4/11/2018.

Filed Date: 2/27/18.

Accession Number: 20180227-5108.

Comments Due: 5 p.m. ET 3/20/18.

Docket Numbers: ER18-917-000.

Applicants: Public Service Company of Colorado.

Description: § 205(d) Rate Filing: OATT PSCo Rush Creek Gen TIE Rate Filing to be effective 5/1/2018.

Filed Date: 2/27/18.

Accession Number: 20180227-5109.

Comments Due: 5 p.m. ET 3/20/18.

Docket Numbers: ER18-918-000.

Applicants: Southern California Edison Company.

Description: § 205(d) Rate Filing: SCE Revised WDAT Attachment J—Revised ITCC to be effective 1/1/2018.

Filed Date: 2/27/18.

Accession Number: 20180227-5125.

Comments Due: 5 p.m. ET 3/20/18.

Docket Numbers: ER18-919-000.

Applicants: Southern California Edison Company.

Description: § 205(d) Rate Filing: SCE Revised TO Tariff Appendix X—Revised ITCC to be effective 1/1/2018.

Filed Date: 2/27/18.

Accession Number: 20180227-5137.

Comments Due: 5 p.m. ET 3/20/18.

Take notice that the Commission received the following electric reliability filings:

Docket Numbers: RR17-2-000.

Applicants: North American Electric Reliability Corporation.

Description: Amendment to December 9, 2016 Petition of the North American Electric Reliability Corporation for Approval of Proposed Revisions to the Rules of Procedure.

Filed Date: 2/27/18.

Accession Number: 20180227-5060.

Comments Due: 5 p.m. ET 3/20/18.

Docket Numbers: RR18-2-000.

Applicants: North American Electric Reliability Corporation.

Description: Petition of the North American Electric Reliability Corporation for Approval of Amendments to the SERC Reliability Corporation Regional Reliability Standard Development Procedure.

Filed Date: 2/12/18.

Accession Number: 20180212-5070.

Comments Due: 5 p.m. ET 3/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: February 27, 2018.
Nathaniel J. Davis, Sr.,
Deputy Secretary.

[FR Doc. 2018-04376 Filed 3-2-18; 8:45 am]

BILLING CODE 6717-01-P